DEPARTMENT OF HEALTH AND HUMAN SERVICES

Agency for Healthcare Research and Quality

Request for Suggestions on Community-Based Participatory Research

AGENCY: Agency for Healthcare Research and Quality (AHRQ), HHS.

ACTION: Notice of request for suggestions.

SUMMARY: AHRQ is soliciting input from its user-groups and stakeholders on its implementation of Community-Based Participatory Research (CBPR) to meet the requirements of the Minority Health and Health Disparities Research and Education Act of 2000. CBPR is a methodology that promotes active community involvement in the processes that shape research, as well as, products and translation of research. CBPR offers opportunities to overcome the barriers faced by conventional approaches to research in low-income and minority communities, which lack this kind of collaboration and communication. As a result, CBPR has been gaining increasing acceptance within the larger biomedical and behavioral research community, and is especially relevant to many research subjects of mutual interest to Federal agencies, including health disparities. The Minority Health and Health Disparities Research and Education Act of 2000 mandates that AHRQ use methods characteristic of CBPR in conducting its research on health disparities. The Act states that “the Director shall implement research strategies and mechanisms that will enhance the involvement of individuals who are members of minority health disparity populations, health services researchers who are such individuals, institutions that train such individuals as researchers, members of minority health disparities populations or other health disparity populations for whom the Agency is attempting to improve the quality and outcomes of care, and representatives of appropriate tribal or other community-based organizations with respect to health disparities.” Research strategies may include the use of centers of excellence that have a “demonstrated capacity to involve members and communities of health disparity populations, including minority health disparity populations, in the planning, conduct, dissemination, and translation of research.” Section 903(b)(2), 42 U.S.C. 299a-1(b)(2) and see Title II of the Minority Health and Health Disparities Research and Education Act of 2000 at http://www.feds.com/basic svc/public law/106-525.htm.

Nature of Recommendations

AHRQ encourages written suggestions from its customers and stakeholders on how AHRQ can implement CBPR in its research portfolio and in the field of health services research. In particular, AHRQ requests comments on the following:

1. Please offer possible definitions of community that are appropriate for health services research.

2. Please describe collaborative opportunities to foster the development or use of CBPR.

3. Please describe strategies that AHRQ could use to increase the capacity for health services researchers and community-based organizations to conduct CBPR.

4. Please describe the strategies that AHRQ could use to support relationships between researchers and community-based organizations.

5. Please describe the accountability mechanisms that AHRQ could institute to ensure the development and maturation of these partnership relationships.

6. Please describe strategies that AHRQ could use to support partnerships with patients and community-based organizations to improve safety and quality in health care.

In preparing your response, please consider ideas put forth at a conference on CPBR last fall which are listed under section titled, “Report of November 2001 Meeting on CBPR.”

DATES: Responses to this request will be accepted within 60 days from publication date. AHRQ will not respond to individual responses, but will consider all suggestions.

Arrangement for public inspection: All responses will be available for public inspection on weekdays between 8:30 a.m. and 5 p.m., from Kaytura Felix Aaron, M.D., Center for Primary Care Research, Agency for Healthcare Research and Quality.

Arrangements for reviewing the submissions may be made by calling Phone: (301) 594-6198; Fax: (301) 594-3721; E-mail: kfaaron@ahrq.gov. Responses may also be accessed through AHRQ's Electronic FOIA Reading Room on AHRQ's web site at http://www.ahrq.gov/news/foia.htm </news/foia.htm>.

ADDRESSES: Submissions should be brief (no more than three pages for each submission) and may be in the form of a letter or e-mail, preferable with an electronic file in a standard word processing format. Please present your suggestions in bullets or outline format. Responses to this request should be submitted to Kaytura Felix Aaron, M.D., Center for Primary Care Research, Agency for Healthcare Research and Quality, 6010 Executive Blvd., Suite 201, Rockville, MD 20852; Phone: (301) 594-6198; Fax: (301) 594-3721; E-mail: kfaaron@ahrq.gov.

FOR FURTHER INFORMATION CONTACT: Kaytura Felix Aaron, M.D., Center for Primary Care Research, Agency for Healthcare Research and Quality, 6010 Executive Blvd., Suite 201, Rockville, MD 20852; Phone (301) 594-6198; Fax: (301) 594-3721; E-mail: kfaaron@ahrq.gov.

SUPPLEMENTARY INFORMATION:

Background on Community-Based Participatory Research

There is increased interest in research that aims to improve the health of disadvantaged populations. However, conventional research in these communities has a contentious history and offers limited opportunities to improve the health and well being of these communities. Policy makers are interested in increasing investments in participatory research because participatory research addresses several of the barriers to and limitations of conventional research. First, partnerships with representatives of the study population ensure that research addresses the priorities of the population under study. Second, community partners bring local knowledge to the research process, thereby increasing the understanding of the complex interactions among economic, social, and behavioral factors that contribute to health problems. Third, partnerships with the population under study increase the efficiency of the research process by improving recruitment and retention of subjects. Finally, the involvement of stakeholders and groups affected by the problem under study increases the opportunity for adoption of new knowledge and the translation of research into practice.

Community-based participatory research (CBPR) is a promising model of research collaboration between researchers and community-based, including faith-based and other non-profit organizations. Researchers and community representatives are actively engaged throughout the research process, from the conception of the research problem to the analysis, dissemination and translation of findings. CBPR engages community members, employs local knowledge in the understanding of health problems and the design of interventions, and invests community members in the processes and products of research. In addition, community members are more likely to be invested in the dissemination and use of research findings and ultimately in the reduction of health disparities.

Report on November 2001 Meeting on CBPR

The Agency for Healthcare Research and Quality convened a meeting on CBPR on November 27-28, 2001 to increase awareness and support for CBPR and to develop an action plan. Participants at this meeting re-affirmed that CBPR is an important model of research for AHRQ and other federal agencies because CBPR can potentially broaden the understanding of complex health issues and increase the relevance of research. Participants at that meeting developed a broad, national research agenda for CBPR.

The recommendations were aimed at the diverse sectors represented at the meeting: Public and private funding organizations, academic institutions, and community organizations. The recommendations that were specific to AHRQ included:

1. Fund CBPR projects and centers;

2. Develop funding mechanisms that facilitate the development of research capacity in community-based organizations;

3. Build a national repository for CBPR methods, tools, and resources;

4. Evaluate CBPR as a strategy to improve health and health care;

5. Develop a balanced portfolio that supports early and mature partnerships;

6. Convene a group to develop standards for CBPR; and

7. Identify and address institutional policies that deter community participation in grant making process.

CPBR is Consistent With AHRQ's Mission and Programs

AHRQ was reauthorized on December 6, 1999 to support research designed to improve the outcomes and quality of health care, reduce its costs, address patient safety and medical errors, and broaden access to effective services. AHRQ accomplishes these goals through the establishment of a broad base of scientific research on the organization, financing, and delivery of health care services, and through the promotion of improvements in clinical practice. The research sponsored, conducted, and disseminated by AHRQ provides information that helps people make better decisions about health care. Since its reauthorization, the Agency's is also required to produce information that improves the outcomes, quality, cost, and accessibility of health care for the following priority populations: Inner city; rural; low income; minority; women; children; elderly; and those with special health care needs, including those who have disabilities, need chronic care, or need end of life health care. CBPR represents an important strategy to meet these objectives.

AHRQ uses mechanisms of grants, cooperative agreements, and contracts to carry out research projects, demonstrations, evaluations, and dissemination activities. AHRQ also supports small grants, conference grants, and training </fund/training/trainix.htm> through dissertation grants <http://grants.hnih.gov/grants/guide/pa-files/par-00-076.html< and National Research Service Awards to institutions <training/t32.htm> and individuals <99005.htm>. The vast majority of AHRQ grants and cooperative agreements are investigator-initiated.

AHRQ uses the following processes to meet its policy and program objectives to conduct its ongoing activities in order to make the most productive use of its resources:

1. Needs Assessment. AHRQ conducts needs assessments through a variety of mechanisms including expert meetings, conferences, and consultations with stakeholders and customers of its research, publishing notices for comment in the Federal Register, as well as regular meetings with its National Advisory Council and government leaders. The results of these assessments are used to determine and prioritize information needs.

2. Knowledge Creation. AHRQ supports and conducts research to produce the next generation of knowledge needed to improve the health care system.

3. Translation and Dissemination. AHRQ's commitment to research extends beyond knowledge generation. AHRQ believes that findings must be useful and made widely available in accessible formats to practitioners, patients, and other decisionmakers. In addition, AHRQ synthesizes and translates knowledge into products and tools in order to support its customers in problem solving and decision making. AHRQ actively disseminates the knowledge, products, and tools to appropriate audiences. Effective dissemination involves forming partnerships with other organizations and leveraging resources.

4. Evaluation. In order to assess the ultimate outcomes of AHRQ research, the Agency is placing increased emphasis on the evaluation of the impact and usefulness of Agency-supported work in health care settings and policymaking.

Dated: June 18, 2002.
Carolyn M. Clancy,
Acting Director.

[FR Doc. 02-15865 Filed 6-20-02; 8:45 am]

BILLING CODE 4160-90-M